DEPARTMENT OF TRANSPORTATION

Federal Aviation Administration

Petition for Authorization to Exceed Mach 1

AGENCY: Federal Aviation Administration (FAA), Department of Transportation (DOT).

ACTION: Notice of decision to grant an authorization to exceed Mach 1.

SUMMARY: This notice summarizes the petition Boom Supersonic, Inc. submitted to the FAA requesting a special flight authorization as provided for in FAA regulations. The notice also provides for public awareness of FAA's decision to grant Boom Supersonic, Inc.'s request. The FAA is not requesting comments on the petition or the FAA's decision regarding the petition because a special flight authorization petition to exceed Mach 1 follows a separate regulatory process.

DATES: The grant of the special flight authorization to exceed Mach 1 is effective April 7, 2024.

FOR FURTHER INFORMATION CONTACT: Sandy Liu, Office of Environment and Energy, Federal Aviation Administration, 800 Independence Avenue SW, Washington, DC 20591; 202-267-4748, sandy.liu@faa.gov.

SUPPLEMENTARY INFORMATION:

Petitioner: Boom Supersonic, Inc.

Applicable Sections of 14 CFR: Sections 91.817 and 91.818.

Description of Relief Sought: Boom Supersonic, Inc. seeks relief to allow certain flight tests to exceed Mach 1.

On March 24, 2023, Boom Supersonic, Inc., Centennial, CO, petitioned the FAA on behalf of Boom Technology, Inc. (“Boom”) to allow Boom to operate a civil aircraft that is expected to exceed Mach 1 speeds during flight testing. Specifically, Boom Supersonic Inc. requested to conduct developmental flight test operations of an experimental aircraft (XB-1) and a chase airplane over Edwards Air Force Base within pre-existing supersonic corridors, located in Los Angeles, Kern, and San Bernardino counties in California. The petitioner requested authorization for up to 20 supersonic test flights over one year. The proposed operations would occur at or above 30,000 ft Mean Sea Level.

On January 12, 2024, the FAA published a notice of availability in the Federal Register (89 FR 2471) of an Environmental Assessment (EA) prepared to satisfy National Environmental Policy Act requirements and address the environmental impact of the proposed supersonic operations. The FAA requested comments on the EA. The FAA finalized the EA and issued a Finding of No Significant Impact on February 29, 2024.

The FAA finds the request by the petitioner is well within the intent of 14 CFR 91.818. As such, the FAA has decided to grant this Special Flight Authorization to Exceed Mach 1. Authority to exceed Mach 1 during the testing of the Boom XB-1 experimental aircraft is limited to the conditions and limitations stated in the special flight authorization.

The FAA's decision to grant a special flight authorization in response to Boom Supersonic Inc.'s petition and the applicable environmental review documents are available on FAA's website. The FAA is posting special flight authorization applications, grants of special flight authorizations, and applicable environmental review documents. These documents may be found at: https://www.faa.gov/about/office_org/headquarters_offices/apl/aee/env_policy/sfa_supersonic.

Issued in Washington, DC, on April 17, 2024.
Sandy Liu,
Engineer, Noise Division, Office of Environment and Energy, Noise Division (AEE-100).

[FR Doc. 2024-08580 Filed 4-22-24; 8:45 am]

BILLING CODE 4910-13-P